FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than June 3, 2003.

A. Federal Reserve Bank of New York (Betsy Buttrill White, Senior Vice President) 33 Liberty Street, New York, New York 10045-0001:

1. Commerzbank Aktiengesellschaft, Frankfurt, Germany; to engage de novo through its subsidiary, Commerzbank Capital Markets Corporation, New York, New York, in serving as the investment adviser to and the general partner or general member of, and holding and placing equity interest in, certain investment funds which invest only in securities and other assets which are permitted to be held directly under the Bank Holding Company Act (the “BHC Act”), including acting as a commodity pool operator for private investment funds organized as commodity pools that invest in assets which a bank holding company is permitted to hold directly under the BHC Act, as permitted under Board precedent, see First Security Corporation, 85 Fed. Res. Bull. 207 (1999), Dresdner Bank AG, 84 Fed. Res. Bull. 361 (1998).

Board of Governors of the Federal Reserve System, May 14, 2003.
Robert deV. Frierson,
Deputy Secretary of the Board.

[FR Doc. 03-12501 Filed 5-19-03; 8:45 am]

BILLING CODE 6210-01-S